DEPARTMENT OF THE INTERIOR

Bureau of Land Management

[LLWO120200 L16300000.NU0000]

Notice of Proposed Supplementary Rules for Public Lands in New Mexico

AGENCY: Bureau of Land Management, Interior.

ACTION: Proposed supplementary rules.

SUMMARY: The New Mexico State Office of the Bureau of Land Management (BLM) is proposing to establish supplementary rules within public lands in New Mexico.

DATES: Interested parties may submit written comments regarding the proposed supplementary rules until January 4, 2016.

ADDRESSES: You may submit comments by mail, hand-delivery, or electronic mail.

Mail: Office of Law Enforcement, BLM, New Mexico State Office, P.O. Box 27115 Santa Fe, NM 87502-0115.

Hand-delivery: 301 Dinosaur Trail, Santa Fe, New Mexico.

Electronic mail: BLM_NM_Supplementary_Rules@blm.gov. Please indicate “Attention: Law Enforcement” in the subject line.

FOR FURTHER INFORMATION CONTACT: Jeffery Miller, New Mexico State Chief Ranger, Bureau of Land Management, P.O. Box 27115, Santa Fe, NM 87502-0115, at (505) 954-2206, or j51mille@blm.gov. Persons who use a telecommunications device for the deaf (TDD) may call the Federal Information Relay Service (FIRS) at 1-800-877-8339 to contact the above individual.

SUPPLEMENTARY INFORMATION:

I. Public Comment Procedures

You may mail, email, or hand-deliver comments to the New Mexico State Office, at the addresses listed above (See ADDRESSES). Written comments on the proposed supplementary rules should be specific and confined to issues pertinent to the proposed rules, and should explain the reason for any recommended change. Where possible, comments should reference the specific section or paragraph of the proposal that the commenter is addressing. The BLM is not obligated to consider, or include in the Administrative Record for the final supplementary rules, comments delivered to an address other than those listed above (See ADDRESSES) or comments that the BLM receives after the close of the comment period (See DATES), unless they are postmarked or electronically dated before the deadline.

Comments, including names, street addresses, and other contact information for respondents, will be available for public review at 301 Dinosaur Trail, Santa Fe, New Mexico, during regular business hours (8 a.m. to 4:30 p.m., Monday through Friday, except Federal holidays). Before including your address, phone number, email address, or other personal identifying information in your comment, you should be aware that your comment—including your personal identifying information—may be made publicly available at any time. While you can ask us in your comment to withhold your personal identifying information from public review, we cannot guarantee that we will be able to do so.

II. Background

The BLM New Mexico State Office is proposing to establish supplementary rules for public lands that it manages within the State of New Mexico. The proposed supplementary rules are necessary to support the mission of the BLM by protecting the natural resources and enhancing the health and safety of those using and enjoying the public lands. The proposed supplementary rules have been grouped into locations according to where they would be applicable. Some of the proposed supplementary rules would apply to all BLM-managed public lands in New Mexico, some would apply to developed recreation areas, and some would apply to specified locations.

III. Discussion of Proposed Supplementary Rules

In the mid-1990s, three BLM Districts established individual sets of supplementary rules for BLM-managed public lands in New Mexico:

• Establishment of Supplementary Rules for Designated Recreation Sites, Special Recreation Management Areas, and Other Public Land in the Albuquerque District, NM, published on May 10, 1996 (61 FR 21479);

• Reestablishment of Visitor Restrictions for Designated Recreation Sites, Special Recreation Management Areas, and Other Public Land in the Roswell District, NM, published on December 7, 1995 (60 FR 62879); and

• Visitor Restrictions for Designated Recreation Sites, Special Recreation Management Areas, and Other Public Land in the Las Cruces District, NM, published on November 13, 1995 (60 FR 57012).

The BLM proposes to modify or remove many existing supplementary rules for several reasons. First, the BLM has redrawn the administrative boundaries for some of the BLM Districts since the BLM published the supplementary rules for the three districts. For example, the Taos Field Office, which was previously part of the Albuquerque District, is now part of the Farmington District. Additionally, the Socorro Field Office, which was previously part of the Las Cruces District, is now part of the Albuquerque District. This has led to confusion about whether, and to what extent, the supplementary rules apply in areas where the administrative boundaries have changed. Second, the BLM is removing some supplementary rules because they are already codified in Title 43 of the Code of Federal Regulations (CFR), including in Sections 8365 (Visitor Services—Rules of Conduct), 9212 (Fire Management—Wildfire Protection), and 9268 (Law Enforcement—Criminal—Recreation Programs). Third, the BLM is removing or revising some of the existing supplementary rules to be consistent with the specific language of State law. Fourth, the BLM's proposed supplementary rules would implement decisions made in current Resource Management Plans (RMPs). Most BLM offices in New Mexico have either created or updated an RMP since the publication of the three district supplementary rules in the mid-1990s. In the proposed supplementary rules, the BLM seeks to implement special management decisions that apply to specific locations by formally publishing them in the Federal Register. These specific decisions have been analyzed and approved in various RMPs. The publication of these supplementary rules is necessary to be able to enforce the specific decisions that have been analyzed and approved in various RMPs.

Two of the proposed supplementary rules would be new for all the BLM managed lands within the State of New Mexico. These rules can be summarized as:

1. Use or possession of drug paraphernalia; and

2. Open alcoholic beverage container in a motor vehicle, which includes off-highway vehicles

Currently, the BLM's controlled substance and alcohol regulations in New Mexico lack specific rules with penalties for the possession of drug paraphernalia and open alcoholic beverage container in a motor vehicle. The possession of drug paraphernalia and open containers of alcoholic beverage in a motor vehicle are already illegal on public lands under State law. These two new rules would be consistent with current New Mexico Statutes found in NMSA 1978 sections 30-31-25.1 and 66-8-138.

The supplementary rules proposed in this Notice, if adopted, will replace and supersede all existing supplementary rules currently applicable to BLM-managed public lands within the State of New Mexico.

IV. Procedural Matters

Regulatory Planning and Review (Executive Orders 12866 and 13563)

The proposed supplementary rules are not a significant regulatory action and are not subject to review by the Office of Management and Budget under Executive Orders 12866 and 13563. They would not have an effect of $100 million or more on the economy. The proposed supplementary rules would not adversely affect in a material way the economy, productivity, competition, jobs, the environment, public health or safety, or State, local, or tribal governments or communities. The proposed supplementary rules would not create a serious inconsistency or otherwise interfere with an action taken or planned by another agency. The proposed supplementary rules would not alter the budgetary effects of entitlements, grants, user fees, or loan programs or the rights or obligations of their recipients nor do they raise novel legal or policy issues. They would merely impose rules of conduct and impose other limitations on certain recreational and commercial activities on certain public lands to protect natural resources and human health and safety.

Clarity of the Supplementary Rules

Executive Order 12866 requires each agency to write regulations that are simple and easy to understand. The BLM invites your comments on how to make these proposed supplementary rules easier to understand, including answers to questions such as the following:

(1) Are the requirements in the supplementary rules clearly stated?

(2) Do the supplementary rules contain technical language or jargon that interferes with their clarity?

(3) Does the format of the supplementary rules (grouping and order of sections, use of headings, paragraphing, etc.) aid or reduce clarity?

(4) Would the supplementary rules be easier to understand if they were divided into more (but shorter) sections?

(5) Is the description of the supplementary rules in the SUPPLEMENTARY INFORMATION section of this preamble helpful in understanding the supplementary rules? How could this description be more helpful in making the supplementary rules easier to understand?

Please send any comments you have on the clarity of the rule to the addresses specified in the ADDRESSES section.

National Environmental Policy Act

The BLM has found that the proposed supplementary rules are categorically excluded from environmental review under Section 102(2)(C) of the National Environmental Protection Act of 1969 (NEPA), 42 U.S.C. 4332(2)(C), pursuant to 43 CFR 46.205(b) and 46.210(i). In addition, the proposed supplementary rules do not present any of the 12 extraordinary circumstances listed at 43 CFR 46.215. Pursuant to the Council on Environmental Quality regulations (40 CFR 1508.4) and the environmental regulations, policies, and procedures of the Department of the Interior (DOI) (43 CFR 46.205), the term “categorical exclusions” means a category of actions which do not individually or cumulatively have a significant effect on the human environment and that have been found to have no such effect in procedures adopted by a Federal agency and for which neither an environmental assessment nor an environmental impact statement is required. All of the proposed supplementary rules are consistent with applicable land use plans. Additionally, through the various RMPs developed within the State of New Mexico, the BLM has already analyzed the potential impacts captured by the proposed supplementary rules.

Regulatory Flexibility Act

Congress enacted the Regulatory Flexibility Act (RFA) of 1980, as amended 5 U.S.C. 601-612, to ensure that government regulations do not unnecessarily or disproportionately burden small entities. The RFA requires a regulatory flexibility analysis if a rule would have a significant economic impact, either detrimental or beneficial, on a substantial number of small entities. The proposed supplementary rules would merely impose reasonable restrictions on certain recreational or commercial activities on public lands in order to protect natural resources and the environment, and provide for human health and safety. Therefore, the BLM has determined under the RFA that the proposed supplementary rules would not have a significant economic impact on a substantial number of small entities.

Small Business Regulatory Enforcement Fairness Act

The proposed supplementary rules are not a “major rule” as defined under 5 U.S.C. 804(2). The proposed supplementary rules would merely revise the rules of conduct for public use of limited areas of public lands and would not affect commercial or business activities of any kind.

Unfunded Mandates Reform Act

The proposed supplementary rules would not impose an unfunded mandate of more than $100 million per year; on State, local, or tribal governments in the aggregate, or on the private sector, nor would they have a significant or unique effect on small governments. The proposed supplementary rules would have no effect on governmental or tribal entities and would impose no requirements on any of these entities. The proposed supplementary rules would merely revise the rules of conduct for public use of limited areas of public lands and would not affect tribal, commercial, or business activities of any kind. Therefore, the BLM is not required to prepare a statement containing the information required by the Unfunded Mandates Reform Act at 2 U.S.C. 1531.

Executive Order 12630, Governmental Actions and Interference With Constitutionally Protected Property Rights (Takings)

The proposed supplementary rules do not represent a government action capable of interfering with constitutionally protected property rights. Therefore, the BLM has determined that the proposed supplementary rules would not cause a taking of private property or require further discussion of takings implications under this Executive Order.

Executive Order 13132, Federalism

The proposed supplementary rules would not have a substantial direct effect on the States, on the relationship between the national government and the States, or on the distribution of power and responsibilities among the various levels of government. Therefore, in accordance with Executive Order 13132, the BLM has determined that the proposed supplementary rules would not have sufficient Federalism implications to warrant preparation of a Federalism Assessment.

Executive Order 12988, Civil Justice Reform

Under Executive Order 12988, the BLM has determined that the proposed supplementary rules would not unduly burden the judicial system, and that they meet the requirements of sections 3(a) and 3(b)(2) of Executive Order 12988.

Executive Order 13175, Consultation and Coordination With Indian Tribal Governments

In accordance with Executive Order 13175, the BLM has found that the proposed supplementary rules do not include policies that would have tribal implications. The proposed supplementary rules would merely revise the rules of conduct for public use of limited areas of public lands.

Executive Order 13352, Facilitation of Cooperative Conservation

In accordance with Executive Order 13352, the BLM has determined that these proposed consolidated supplementary rules would not impede facilitating cooperation conservation; would take appropriate account of and consider the interests of persons with ownership or other legally recognized interests in land or other natural resources. The rules would properly accommodate local participation in the Federal decision-making process, and would provide that the programs, projects, and activities are consistent with protecting public health and safety.

Information Quality Act

In developing these proposed supplementary rules, the BLM did not conduct or use a study, experiment, or survey requiring peer review under the Information Quality Act (Pub. L. 106-554). In accordance with the Information Quality act, the DOI has issued guidance regarding the quality of information that it relies on for regulatory decisions. This guidance is available on the DOI's Web site at http://www.doi.gov/ocio/information_management/iq.cfm.

Executive Order 13211, Actions Concerning Regulations That Significantly Affect Energy Supply, Distribution, or Use

Under Executive Order 13211, the BLM has determined that the proposed supplementary rules would not comprise a significant energy action, and that they would not have an adverse effect on energy supplies, production, or consumption.

Paperwork Reduction Act

The proposed supplementary rules do not directly provide for any information collection that the Office of Management and Budget must approve under the Paperwork Reduction Act of 1995, 44 U.S.C. 3501-3521. Moreover, any information collection that may result from Federal criminal investigations or prosecutions conducted under the proposed supplementary rules are exempt from the provisions of 44 U.S.C. 3518(c)(1).

Author

The principal author of these proposed supplementary rules is Jeffery Miller, State Chief Ranger, New Mexico State Office, 301 Dinosaur Trail, Santa Fe, NM 87508.

V. Proposed Supplementary Rules

For the reasons stated in the preamble and under the authorities for supplementary rules found under 43 CFR 8365.1-6, 43 U.S.C. 1733(a), 16 U.S.C. 670h(c)(5), and 43 U.S.C. 315a, the BLM New Mexico State Director proposes to issue consolidated supplementary rules for public lands managed by the BLM in New Mexico, to read as follows:

Definitions

Camp means the erecting of a tent or shelter of natural or synthetic material, preparing a sleeping bag or other bedding material for use, parking of a motor vehicle, motor home, or trailer, or mooring of a vessel for the apparent purpose of overnight occupancy.

Developed recreation sites and areas means sites and areas that contain structures or capital improvements primarily used by the public for recreation purposes. Such sites or areas may include such features as: Delineated spaces for parking, camping or boat launching; sanitary facilities; potable water; grills or fire rings; tables; or controlled access.

Grey water means wastewater from washing machines, showers, bathtubs, hand washing lavatories, and sinks that does not contain human excrement or chemicals, excluding soaps and shampoos.

Mechanical Transport means any vehicle, device or contrivance for moving people or material in or over land, water, snow, or air that has moving parts, including, but not limited to, bicycles, game carriers, carts and wagons. The term does not include wheelchairs, horses or other stock, skis or snowshoes.

Minor means any person under 21 years of age, consistent with the New Mexico Liquor Control Act at New Mexico Statutes 60-3A-3-P.

Motor Vehicle means any self-propelled device in, upon, or by which any person or property is or may be propelled, moved or drawn, including, but not limited to, cars, trucks, vans, motorcycles, all-terrain vehicles, motor-driven cycles, motorized scooters, motorized skateboards, and snowmobiles. “Motor vehicle” does not include a self-propelled wheelchair, tricycle or motorized quadricycle when operated by a person who, by reason of physical disability, is otherwise unable to move about as a pedestrian.

Pet means a dog, cat, or any domesticated companion animal.

Weapon means all firearms, air rifles, pellet and BB guns, spring guns, bows and arrows, slings, paint ball markers, other instruments that can propel a projectile (such as a bullet, dart, or pellet by combustion, air pressure, gas pressure or other means), or any instrument that can be loaded with and fire blank cartridges.

Management Plan means any land use plan, resource management plan, travel management plan, recreation activity management plan, or other similar implementation level plan.

Prohibited Acts

Unless otherwise authorized by the BLM, the following prohibitions apply to all BLM-managed public lands within the State of New Mexico:

Natural Resource Protection

1. You must not construct or maintain any unauthorized pit toilet facility, other than shallow holes or trench toilets for use by backcountry visitors for stays lasting 14 days or less. All holes, trenches, and pits must be at least 100 feet from any permanent water source.

Camping

2. You must not camp or occupy any site longer than 14 days within a 28-day period. After 14 days, campers must move at least 25 miles and not camp within this 25-mile radius for at least 30 days.

3. You must not park any motor vehicle or camp in violation of state law.

Transportation

4. You must not park a motor vehicle in areas where prohibited in a management plan for the area.

5. You must not use mechanical transport in areas or on trails posted as closed to such use and prohibited in a management plan for the area.

Pets and Livestock

6. You must not allow a pet to harass, molest, injure, or kill humans, domesticated animals, wildlife, or livestock.

7. You must not ride a horse in areas or on trails posted as closed to such use and prohibited in a management plan for the area.

8. You must not bring a pet on any trail, in any cave, or freshwater spring closed to pets in the management plan for the area. Service animals are exempt from this rule.

9. You must remove/dispose of all pet waste from areas with regular human foot traffic including, but not limited to, developed recreation areas, picnic areas, parking areas, and trails.

Alcohol and Drugs

10. You must not buy alcoholic beverages for or procure the sale or service of alcoholic beverages to a minor; deliver alcoholic beverages to a minor; or aid or assist a minor to buy, procure or be served alcoholic beverages.

11. If you are a minor, you must not buy, attempt to buy, receive, possess, or consume alcoholic beverages.

12. You must not knowingly have in your possession or on your person, while in a motor vehicle upon any public road, any bottle, can or other receptacle containing any alcoholic beverage that has been opened or had its seal broken or the contents of which have been partially removed.

13. You must not use or possess any drug paraphernalia in violation of state law.

Public Health and Safety

14. You must not use or possess a weapon, including concealed carry, in violation of State law.

15. You must not fail to comply with all applicable State of New Mexico regulations for boating safety, equipment, and registration.

16. You must not possess a glass container where prohibited in a management plan for the area.

The following prohibitions apply to all BLM-managed developed recreation areas and sites within the State of New Mexico:

Natural Resource Protection

1. You must not dispose of any grey water from a trailer or other vehicle except in facilities provided for such.

Camping

2. You must not reserve camping space by any means not authorized or required by the BLM.

Pets and Livestock

3. You must not bring equine stock, llamas, cattle, or other livestock within campgrounds or picnic areas unless facilities have been specifically provided for such use.

Public Health and Safety

4. You must not engage in noncommercial float boating without wearing at all times while on the river, an approved U.S. Coast Guard Type I, III or V life preserver.

The following prohibitions apply to the specified locations on BLM public lands within the State of New Mexico:

Las Cruces District

1. Within Organ Mountains-Desert Peaks National Monument

a. Within Aguirre Spring Campground:

You must not be within the campground after 10 p.m. unless overnight camping.

You must not access the campground with a motor vehicle between 9 p.m. and 7 a.m.

b. Within Dripping Springs Natural Area:

You must not climb, walk on, ascend, descend, or traverse historic structures.

You must not enter outside of posted day-use-only hours.

You must not swim, wade, or bathe in a pond.

You must not hike off trail on Dripping Springs Trail southeast of Crawford Trail junction.

c. Within Organ/Franklin Mountains Area of Critical Environmental Concern:

You must not bring a pet into upper Ice Canyon. Service animals are exempt from this rule.

You must not hike off designated trails in upper Ice Canyon.

d. Within Kilbourne Hole Volcanic Crater:

You must not discharge a weapon within the rim

2. Within Lake Valley Historic Site:

a. You must not walk off an established trail.

b. You must not camp.

c. You must not use outside of posted hours.

3. Within Fort Cummings Special Management Area:

a. You must not climb, walk on, ascend, descend, or traverse historic structures.

b. You must not discharge a weapon within a fenced enclosure.

c. You must not walk off an established trail within a fenced enclosure.

d. You must not camp within a fenced enclosure.

4. Within Apache Box Area of Critical Environmental Concern:

You must not discharge a weapon between February 1 and August 15.

5. Within Cook's Range Area of Critical Environmental Concern:

You must not collect fuelwood.

6. Within Guadalupe Canyon Area of Critical Environmental Concern:

You must not collect fuelwood.

Albuquerque District

Rio Puerco Field Office

7. Within Guadalupe Ruin:

You must not camp.

8. Within Kasha-Katuwe Tent Rocks National Monument:

a. You must not camp or occupy between 10 p.m. and 6 a.m.

b. You must not build, tend, or use a campfire.

c. You must not climb or walk on “Tent Rock” formations.

9. Within La Ventana Natural Arch area:

a. You must not camp.

b. You must not participate in technical rock climbing.

10. Within El Malpais National Conservation Area:

You must not camp at The Narrows.

Socorro Field Office

11. Within Fort Craig Historic Site:

a. You must not walk off an established trail.

b. You must not camp.

12. Within Zuni Salt Lake Proprietary Area of Critical Environmental Concern:

You must not cut wood.

13. Within Johnson Hill Special Recreation Management area:

You must not target shoot within a half a mile from the trail.

Farmington District

Taos Field Office

14. Within Ward Ranch Recreation sites:

You must not camp or occupy between 10 p.m. and 6 a.m.

15. Within Rio Grande Del Norte National Monument:

Wild Rivers Bear Crossing Overlook:

You must not camp or occupy between 10 p.m. and 6 a.m.

Rio Grande Wild and Scenic River:

a. At John Dunn Bridge Recreation Site, you must not camp or occupy between 10 p.m. and 6 a.m.

b. At Manby Hot Springs Recreation Site, you must not camp or occupy between 10 p.m. and 6 a.m.

c. At Black Rock Spring Recreation Site, you must not camp or occupy between 10 p.m. and 6 a.m.

d. At Chawalauna Overlooks, you must not camp or occupy between 10 p.m. and 6 a.m.

Orilla Verde Recreation Area:

a. You must not launch or take out boats, except for emergencies, at any site not designated for such use.

b. At gauging station picnic site, you must not camp or occupy between 10 p.m. and 6 a.m.

Taos Valley Overlook Zone:

a. You must not discharge a weapon.

b. You must not camp.

c. You must not allow an unleashed dog at any trailhead.

San Antonio Extensive Recreation Management Area:

You must not have a fire outside a fire container.

Taos Plateau Extensive Recreation Management Area:

You must not camp in the Guadalupe Mountain Zone within the Wild Rivers Recreation Area.

Ute Mountain Extensive Recreation Management Area:

You must not camp within 300 feet of the descent points into Rio Grande or Costilla Creek.

16. Within Lower Gorge Special Recreation Management Area:

a. At Quartzite Recreation Site, you must not camp or occupy between 10 p.m. and 6 a.m.

b. At County Line Recreation Site, you must not camp or occupy between 10 p.m. and 6 a.m.

c. At Lover's Lane Recreation Site, you must not camp or occupy between 10 p.m. and 6 a.m.

d. Between County Line and Velarde Diversion Dam, you must not use motorized craft, including inboard or outboard motors, jet skis, personal watercraft or hovercraft.

17. Within Chama Canyon Special Recreation Management Area:

You must not have a fire outside a fire container.

18. Within Posi Special Recreation Management Area:

a. You must not discharge a weapon.

b. You must not camp.

c. You must not allow an unleashed dog in the area of the trailhead, including the parking area.

19. Within Palacio Arroyos Special Recreation Management Area:

a. You must not target shoot within the areas used for parking, unloading trailers, camping, and pit areas (during OHV events).

b. You must not allow an unleashed dog in the area used for parking, unloading trailers, camping, and pit areas (during OHV events).

20. Within La Puebla Special Recreation Management Area:

a. You must not discharge a weapon.

b. You must not camp.

21. Within Cieneguilla Special Recreation Management Area:

a. You must not discharge a weapon.

b. You must not camp.

c. You must not allow an unleashed dog in the area of the trailhead, including the parking area.

22. Within Diablo Canyon Special Recreation Management Area:

You must not discharge a weapon.

23. Within Cerrillos Hills/Burnt Corn Special Recreation Management Area:

You must not discharge a weapon.

24. Within La Cienega Area of Critical Environmental Concern:

a. You must not discharge a weapon in Santa Fe River Canyon or cultural resource sites.

b. You must not cut wood.

25. Within Copper Hills Area of Critical Environmental Concern:

You must not camp within 100 feet of rivers and streams.

26. Within Galisteo Basin Area of Critical Environmental Concern:

You must not target shoot.

Farmington Field Office

27. Within Alien Run Mountain Bike Trail:

a. You must not discharge a weapon.

b. You must not gather wood.

28. Within Carracas Mesa Recreation and Wildlife Area:

You must not gather wood.

29. Within Head Canyon Motocross Track:

a. You must not gather wood.

b. You must not discharge a weapon.

30. Within Glade Run Recreation Area:

a. You must not discharge a weapon.

b. You must not gather wood.

c. You must not camp.

31. Within Navajo Lake Horse Trail:

a. You must not gather wood.

b. You must not discharge a weapon, except licensed hunters during hunting season.

32. Within Angel Peak Scenic Area:

You must not gather wood.

33. Within Dunes Off-Road Vehicle Recreation Area:

a. You must not gather wood.

b. You must not discharge a weapon.

34. Within Negro Canyon Special Designated Area:

You must not gather wood.

35. Within Pinon Mesa Recreation Area:

a. You must not gather wood.

b. You must not discharge a weapon, except licensed hunters during hunting season.

c. You must not enter posted-closed areas between March 1 and August 1.

36. Within Rock Garden Recreation Area:

a. You must not gather wood.

b. You must not discharge a weapon, except licensed hunters during hunting season.

37. Within Simon Canyon Area of Critical Environmental Concern:

a. You must not gather wood.

b. You must not discharge a weapon in the Simon Canyon drainage.

38. Within Thomas Canyon Recreation and Wildlife Area:

You must not gather wood.

39. Within Ephemeral Wash Riparian Area:

You must not cut or gather wood.

Pecos District

Roswell Field Office

40. Within Rio Bonito Acquired Lands:

You must not discharge a weapon including hunting, except for bow hunting in authorized areas

41. Within Fort Stanton National Conservation Area:

a. You must not enter Fort Stanton Cave between November 1 and April 15.

b. You must not enter Feather Cave.

42. Within Roswell Cave Complex:

a. You must not enter Crockett, Crystal Caverns, Martin-Antelope Gyp, Torgac Annex, Torgac, Big-Eared Cave, Malpais Madness, Corn Sink Hole, or Tres Nino caves between November 1 and April 15.

b. You must not enter Bat Hole Cave or Coachwhip Cave.

43. Carrizozo Land Partnership

a. You must not enter lands without being in possession of required permit (i.e., vehicle pass).

Exemptions

The following persons are exempt from these supplementary rules: Federal, State, local, and/or military employees acting within the scope of their duties; members of any organized rescue or fire-fighting force performing an official duty; and persons, agencies, municipalities or companies holding an existing special-use permit and operating within the scope of their permit.

On BLM-managed public lands, outside of developed recreation areas and sites, where discharging a weapon is prohibited through the establishment of a supplementary rule, unless specifically excluded, persons with a valid New Mexico hunting license while legally and actively in the pursuit of game during an open season are authorized by the BLM to discharge weapons in these areas.

Penalties

On public lands under section 303(a) of the Federal Land Policy and Management Act of 1976, 43 U.S.C. 1733(a), and 43 CFR 8360.0-7, any person who violates any of these supplementary rules may be tried before a United States Magistrate and fined no more than $1,000 or imprisoned for no more than 12 months or both. Such violations may also be subject to enhanced fines provided for by 18 U.S.C. 3571.

Under the Taylor Grazing Act of 1934, 43 U.S.C. 315a, any willful violation of these supplementary rules on public lands within a grazing district, and within the boundaries established in the rules shall be punishable by a fine of not more than $500. Such violations may also be subject to the enhanced fines provided for by 18 U.S.C. 3571. Under the Sikes Act, 16 U.S.C. 670j, any person who violates any of these supplementary rules on public lands subject to a conservation and rehabilitation program implemented by the Secretary of the Interior may be tried before a United States Magistrate and fined no more than $1,000 or imprisoned for no more than 6 months or both. Such violations may also be subject to the enhanced fines provided for by 18 U.S.C. 3571.

Aden Seidlitz,
Acting State Director, Bureau of Land Management, New Mexico.

[FR Doc. 2015-28240 Filed 11-4-15; 8:45 am]

BILLING CODE 4310-FB-P